DEPARTMENT OF TRANSPORTATION

Federal Aviation Administration

[Summary Notice No. PE-2004-67]

Petitions for Exemption; Summary of Petitions Received

AGENCY: Federal Aviation Administration (FAA), DOT.

ACTION: Notice of petition for exemption received.

SUMMARY: Pursuant to FAA's rulemaking provisions governing the application, processing, and disposition of petitions for exemption, part 11 of title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 7, 2004.

ADDRESSES: Send comments on the petition to the Docket Management System, U.S. Department of Transportation, Room Plaza 401, 400 Seventh Street, SW., Washington, DC 20590-0001. You must identify the docket number FAA-2004-18747 at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Jan Thor (425-227-2127), Transport Airplane Directorate (ANM-113), Federal Aviation Administration, 1601 Lind Ave, SW., Renton, WA 98055-4056; or John Linsenmeyer (202-267-5174), Office of Rulemaking (ARM-1), Federal Aviation Administration, 800 Independence Avenue, SW., Washington, DC 20591. This notice is published pursuant to 14 CFR 11.85 and 11.91.

Anthony F. Fazio,
Director, Office of Rulemaking.

Petitions for Exemption

Docket No.: FAA-2004-18747.

Petitioner: Lockheed Martin Aircraft Center.

Section of 14 CFR Affected: 14 CFR 25.807.

Description of Relief Sought: Lockheed Martin Aircraft Center petitions for exemption from the requirements of 14 CFR 25.807 regarding emergency exits. Specifically, the requirements for overwing exits per paragraph g(1) and per ditching requirements of paragraph i(1). The Gulfstream Model GV-SP (G550) is equipped with a left, forward entry door/exit, and 2 pairs of 19 × 26-inch ellipse overwing exits approved under an equivalent safety finding. All of the exits combined are rated for a maximum of 19 passengers. The proposed modification will leave the forward entry door/exit unchanged; a fairing is added to the outside of the fuselage, which covers both pairs of the overwing exits. The forward pair of overwing exists will be disabled. The aft pair of overwing exits will remain and not be modified. The added fairing will have a hatch provided in it to allow use of the aft pair of overwing exits from both the inside and the outside. All of the active exits combined in this new configuration will be rated for a maximum of 6 passengers.

[FR Doc. 04-18836 Filed 8-16-04; 8:45 am]

BILLING CODE 4910-13-P